DEPARTMENT OF INTERIOR

National Park Service

60-Day Notice of Intention To Request Clearance of Collection of Information; Opportunity for Public Comment

AGENCY: Department of the Interior, National Park Service.

ACTION: Notice and request for comments.

SUMMARY: Under provisions of the Paperwork Reduction Act of 1995 and 5 CFR part 1320, Reporting and Recordkeeping Requirements, the National Park Service (NPS) invites public comments on a proposed new collection of information (OMB # 1024-XXXX),

DATES: Public comments will be accepted on or before December 11, 2006.

ADDRESSES: Send comments to: Susan Johnson, National Park Service Air Resources Division, U.S. National Park Service, 12795 W. Alameda Parkway, P.O. Box 25287, Denver, Colorado 80225; phone: (303) 987-6694; e-mail: Susan_Johnson@nps.gov., or fax at 303/969-2822.

FOR FURTHER INFORMATION CONTACT: Megan McBride, National Park Service Social Science Program, 1201 “Eye” St., NW., Washington, DC 20016; phone: (202) 513-7190; e-mail: Megan_McBride@contractor.nps.gov., or fax at 202/371-2131.

SUPPLEMENTARY INFORMATION: Title: Visibility Valuation in National Parks and Wilderness Areas: Pre-test and Pilot Test.

Bureau Form Number: None.

OMB Number: To be requested.

Expiration Date: To be requested.

Type of Request: New collection.

Description of Need: The Clean Air Act includes provisions designed to maintain and enhance visibility at national parks and wilderness areas (Sections 169A, 169B, and 110(a)(2)(j)). The National Park Service is directed by its Organic Act to “conserve the scenery * * * unimpaired for the enjoyment of future generations” (16 U.S.C. a-1); and the Clean Air Act charges the NPS with an “affirmative responsibility to protect air quality related values (including visibility)” (42 U.S.C. 7475(d)(2)(B)). Therefore, the NPS believes it is imperative that the value of visibility changes is adequately represented in cost-benefit analyses related to state and federal efforts that may affect visibility (including the Regional Haze Rule, 40 CFR part 51). Although several studies were conducted to estimate visibility benefits in the 1970s and 1980s, methodologies for estimating the benefits of improvements in environmental goods have advanced significantly since that time. Furthermore, baseline visibility conditions in national parks and wilderness areas have changed significantly over the last few decades. As a result, updated estimates of visibility benefits are required.

NPS plans to conduct a nationwide stated-preference survey to estimate the value of visibility changes in national parks and wilderness areas. Stated-preference surveys use carefully designed questions to elicit respondents' willingness to pay for improvements in environmental quality. A general population stated-preference survey is required in this case, as many U.S. citizens may be willing to pay to improve or maintain visibility at national parks and wilderness areas, even if they do not use these areas. Stated-preference surveys are the only methodology available to estimate these non-market-based values. But to ensure that the nationwide survey is unbiased and readily understood by respondents and that the likely effect of non-response on benefit estimates is known, the pre-test and pilot test must first be conducted.

The pre-testing will be done through focus groups, which will be used to develop and refine a survey instrument for the pilot study. Twelve focus groups will be conducted, with approximately 10 participants in each group (120 in total). Thus, a sufficient number of responses will be gathered to evaluate the information presentation, reliability, internal consistency, response variability, and other properties of the draft survey. Results will be used to make improvements to the survey instrument. NPS will proceed iteratively, modifying the draft survey instrument after each focus group to ensure that the wording of the questions is clear and unbiased and effectively addresses the relevant issues.

The pilot study will be designed to account for the potential impact of mail survey non-response on benefit estimates. The pilot study will involve a split-sample comparison between a mail and an in-person survey. Respondents will be asked to complete the survey instrument developed during the pre-testing stage. The results will ultimately be used to adjust the benefit estimates obtained in the nationwide survey for potential non-response bias. The final content of the pilot survey instrument will depend on the pre-testing results. At a minimum, the survey will describe the characteristics of various visibility improvement programs and ask respondents to select a preferred program. The survey will also include socio-demographic questions and questions designed to evaluate the respondents' motivation in selecting a preferred program. Surveys will be conducted with approximately 800 individuals.

For this pilot study, 16 neighborhoods will be selected in two metropolitan areas (Phoenix, AZ and Syracuse, NY). Each neighborhood sample will be split into two groups, with 50 households assigned to a mail survey group and 50 households assigned to an in-person survey group. The in-person survey will be conducted in a manner that minimizes the differences between the two survey modes. NPS specifically requests comments on: (1) The practical utility of the information being gathered; (2) the accuracy of the burden hour estimate; (3) ways to enhance the quality, utility, and clarity of the information to be collected; and (4) ways to minimize the burden to respondents, including use of automated information collection techniques or other forms of information technology.

Automated data collection: No automated data collection will be used in this study.

Description of respondents: Pre-test—adults from Atlanta, GA, Sacramento, CA, and Chicago, IL who are contacted by telephone and agree to participate in focus groups in those cities. Pilot test—adult residents of 16 neighborhoods in Phoenix, AZ and Syracuse, NY who live in owner-occupied homes.

Estimated average number of respondents: 920 (120 for focus groups; 800 for pilot survey).

Estimated average number of responses: 920 (120 for focus groups; 800 for pilot survey).

Estimated average burden hours per response: 2.5 hours for focus group respondents, ⅓ hour for pilot survey respondents.

Frequency of response: 1 time per respondent.

Estimated annual reporting burden: 567 hours.

Dated: September 27, 2006.
Leonard E. Stowe,
NPS, Information Collection Clearance Officer.

[FR Doc. 06-8564 Filed 10-6-06; 8:45 am]

BILLING CODE 4312-52-M0